NATIONAL CREDIT UNION ADMINISTRATION

Submission for OMB Review; Comment Request

AGENCY: National Credit Union Administration (NCUA).

ACTION: Notice.

SUMMARY: The National Credit Union Administration (NCUA) will submit the following information collection requests to the Office of Management and Budget (OMB) for review and clearance in accordance with the Paperwork Reduction Act of 1995, on or after the date of publication of this notice.

DATES: Comments should be received on or before November 10, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dawn Wolfgang at (703) 548-2279, emailing PRAComments@ncua.gov, or viewing the entire information collection request at www.reginfo.gov.

SUPPLEMENTARY INFORMATION:

OMB Number: 3133-0170.

Type of Review: Extension of a currently approved collection.

Title: Fidelity Bond and Insurance Coverage, Sec. 704.18 and Part 713.

Abstract: The Federal Credit Union Act (at 12 U.S.C. 1761b(2)) requires that the boards of federal credit unions (FCU) arrange for adequate fidelity coverage for officers and employees having custody of or responsibility for handling funds.

The regulation contains a number of reporting requirements where a credit union seeks to exercise flexibility under the regulations. These requirements enable NCUA to monitor the FCU's financial condition for safety and soundness purposes and helps to assure that FCUs are properly and adequately protected against potential losses due to insider abuse such as fraud and embezzlement.

Affected Public: Private Sector: Not-for-profit institutions.

Estimated Total Annual Burden Hours: 19.

OMB Number: 3133-0201.

Type of Review: Extension of a currently approved collection.

Title: NCUA Personnel Security Processing Forms.

Abstract: Title 5, Code of Federal Regulations, Part 731 (suitability), Executive Order (E.O.) 13764 (contractor fitness), E.O. 12968/SEAD 4 (classified access), and Homeland Security Directive-12 (badging) requires all federal and contractor employees to undergo a background investigation when seeking employment with an agency. The NCUA Personnel Security Processing Forms (Personnel Security Data Form-Contractor, Personnel Security Data Form-Employee and the Authorization for Release of Credit Information) are used to collect information necessary for applying the government-established suitability/fitness criteria on employees before they can begin employment with or perform contractual services for the NCUA. It may be also required should a contract employee be moved to a new contract work. The background investigation process culminates in an adjudicative determination on whether or not these employees are fit to perform services on behalf of the agency.

Affected Public: Individuals or Households.

Estimated Total Annual Burden Hours: 200.

By Melane Conyers-Ausbrooks, Secretary of the Board, the National Credit Union Administration, on October 4, 2022.

Dated: October 5, 2022.
Dawn D. Wolfgang,
NCUA PRA Clearance Officer.

[FR Doc. 2022-22024 Filed 10-7-22; 8:45 am]

BILLING CODE 7535-01-P